DEPARTMENT OF THE INTERIOR

Minerals Management Service

Outer Continental Shelf Official Protraction Diagrams

AGENCY: Minerals Management Service, Interior.

ACTION: Availability of North American Datum of 1983 (NAD 83) and North American Datum of 1927 (NAD 27) Outer Continental Shelf Official Protraction Diagrams.

SUMMARY: Notice is hereby given that effective with this publication, the following NAD 83-based Outer Continental Shelf Official Protraction Diagrams (for Alaska), and NAD 27-based Outer Continental Shelf Official Protraction Diagrams (for the Gulf of Mexico), with revision dates as indicated, are now available. The Minerals Management Service in accordance with its authority and responsibility under Title 43, Code of Federal Regulations, is updating the basic record used for the description of oil and gas, mineral, and alternative energy lease sales in the geographic areas they represent.

Outer Continental Shelf Official Protraction Diagrams in the Alaska Region

Description/Date

NM58-02 (Unnamed)—May 2, 2006.

NM59-01 (Unnamed)—May 2, 2006.

NN02-04 (Okmuk Canyon)—August 26, 2004.

NN02-06 (Umnak)—August 26, 2004.

NN02-08 (Samalga Island)—August 26, 2004.

NN03-03 (Akutan)—August 26, 2004.

NN03-05 (Unalaska)—August 26, 2004.

NN05-01 (Chirikof Island)—July 5, 2004.

NN07-06 (Unnamed)—May 2, 2006.

NN08-02 (Craig)—May 2, 2006.

NN08-03 (Unnamed)—May 2, 2006.

NN08-04 (Dixon Entrance)—May 2, 2006.

NN08-05 (Unnamed)—May 2, 2006.

NN09-01 (Ketchikan)—May 2, 2006.

NN09-03 (Prince Rupert)—May 2, 2006.

NN59-02 (Unnamed)—May 2, 2006.

NN59-03 (Unnamed)—May 2, 2006.

NN59-04 (Unnamed)—May 2, 2006.

NN59-05 (Unnamed)—May 2, 2006.

NN59-07 (Unnamed)—May 2, 2006.

NO01-01 (Pervenets Canyon)—May 2, 2006.

NO02-06 (St. Paul)—August 26, 2004.

NO02-08 (St. George)—August 26, 2004.

NO05-02 (Seldovia)—July 5, 2004.

NO05-04 (Afognak)—July 5, 2004.

NO05-05 (Karluk)—July 5, 2004.

NO05-06 (Kodiak)—July 5, 2004.

NO05-07 (Trinity Islands)—July 5, 2004.

NO06-01 (Blying Sound)—July 5, 2004.

NO07-04 (Alsek Valley)—May 2, 2006.

NO08-03 (Mt. Fairweather)—May 2, 2006.

NO08-04 (Juneau)—May 2, 2006.

NO08-05 (Sitka)—May 2, 2006.

NO08-06 (Sumdum)—May 2, 2006.

NO08-07 (Goddard)—May 2, 2006.

NO08-08 (Port Alexander)—May 2, 2006.

NO59-08 (Unnamed)—May 2, 2006.

NO60-02 (Aleutian Basin)—May 2, 2006.

NO60-03 (Unnamed)—May 2, 2006.

NO60-04 (Unnamed)—May 2, 2006.

NO60-05 (Unnamed)—May 2, 2006.

NO60-07 (Unnamed)—May 2, 2006.

NP01-02 (Unnamed)—May 2, 2006.

NP01-04 (Bossler)—May 2, 2006.

NP01-05 (Saulsbury West)—May 2, 2006.

NP01-06 (Saulsbury)—May 2, 2006.

NP01-07 (Banks)—May 2, 2006.

NP02-01 (Gambell)—August 26, 2004.

NP02-02 (St. Lawrence)—August 26, 2004.

NP02-04 (Southeast Cape)—August 26, 2004.

NP03-01 (Norton Sound)—August 26, 2004.

NP03-02 (St. Michael)—August 26, 2004.

NP04-01 (Unalakleet)—August 26, 2004.

NP06-07 (Seward)—July 5, 2004.

NP06-08 (Cordova)—July 5, 2004.

NQ02-02 (Cape Seppings West)—August 26, 2004.

NQ02-04 (Bering Strait)—August 26, 2004.

NQ02-06 (Little Diomede Island)—August 26, 2004.

NQ02-07 (Unnamed)—August 26, 2004.

NQ02-08 (Ukivok)—August 26, 2004.

NQ03-01 (Cape Seppings)—August 26, 2004.

NQ03-02 (Noatak)—August 26, 2004.

NQ03-03 (Shishmaref)—August 26, 2004.

NQ03-04 (Kotzebue)—August 26, 2004.

NQ03-05 (Teller)—August 26, 2004.

NQ03-07 (Nome)—August 26, 2004.

NQ03-08 (Solomon)—August 26, 2004.

NQ04-03 (Selawik)—August 26, 2004.

NQ04-07 (Cape Denbigh)—August 26, 2004.

FOR FURTHER INFORMATION CONTACT: Copies of Alaska Official Protraction Diagrams may be obtained from the Alaska Public Information Office, Minerals Management Service, 3801 Centerpoint Drive, Suite 500, Anchorage, Alaska 99503-5820, Telephone (800) 764-2627 or (907) 334-5200.

Outer Continental Shelf Official Protraction Diagrams in the Gulf of Mexico Region

Description/Date

NH16-11 (De Soto Canyon)—August 1, 2008.

NG16-02 (Lloyd Ridge)—August 1, 2008.

NG16-05 (Henderson)—August 1, 2008.

FOR FURTHER INFORMATION CONTACT: Copies of Gulf of Mexico Official Protraction Diagrams may be obtained from the Minerals Management Service, Gulf of Mexico OCS Region, Attention: Public Information Office (MS 5034), 1201 Elmwood Park Boulevard, New Orleans, Louisiana 70123-2394, Telephone (504) 736-2519 or 1-800-200-GULF, Fax (504) 736-2620. Contact through a written request: http://www.gomr.mms.gov/contact.html.

SUPPLEMENTARY INFORMATION: Copies of Official Protraction Diagrams for all Regions may be downloaded from http://www.mms.gov/ld/maps.htm.

Official Protraction Diagrams and Leasing maps may be obtained as Portable Document Format (.pdf) files for viewing and printing in Adobe Acrobat. These files are no longer available in the .gra format. The Acrobat Reader may be obtained from: http://www.adobe.com/products/acrobat/readstep2.html.

Dated: September 24, 2008.
Chris C. Oynes,
Associate Director for Offshore Energy and Minerals Management.

[FR Doc. E8-25446 Filed 10-23-08; 8:45 am]

BILLING CODE 4310-MR-P